SOCIAL SECURITY ADMINISTRATION

Rate for Attorney Fee Assessment Beginning in 2001

AGENCY: Social Security Administration.

ACTION: Notice.

SUMMARY: The Social Security Administration is announcing that the attorney-fee assessment rate under section 206(d) of the Social Security Act, 42 U.S.C. 406(d), for 2001 is 6.3 percent.

FOR FURTHER INFORMATION CONTACT: John Watson, Social Security Administration, Office of the General Counsel, Phone: (410) 965-3137, email: John.Watson@ssa.gov.

SUPPLEMENTARY INFORMATION: Section 406 of Public Law No. 106-170, the Ticket to Work and Work Incentives Improvement Act of 1999, established an assessment for the services required to determine and certify payments to attorneys from the benefits due claimants under Title II of the Social Security Act. This provision is codified in section 206 of the Social Security Act (42 U.S.C. 406). The legislation set the assessment for the calendar year 2000 at 6.3 percent of the amount that would be required to be certified for direct payment to the attorney under either section 206(a)(4) or 206(b)(1) before the application of the assessment. For subsequent years, the legislation requires the Commissioner of Social Security to determine the percentage rate necessary to achieve full recovery of the costs of determining and certifying fees to attorneys, but not in excess of 6.3 percent.

The Commissioner of Social Security has determined, based on available data, that the current rate of 6.3 percent will continue. We based our decision to continue the 6.3 percent assessment rate on work sampling and management information data for performing these functions. We are continuing to review our data to determine if a change is appropriate subsequently.

Dated: January 16, 2001.
Yvette S. Jackson,
Deputy Commissioner for Finance, Assessment and Management.

[FR Doc. 01-1608 Filed 1-18-01; 8:45 am]

BILLING CODE 4191-02-U